DEPARTMENT OF TRANSPORTATION

Federal Aviation Administration

14 CFR Part 71

[Docket No. FAA-2005-23436; Airspace Docket No. 05-ASO-10]

RIN 2120-AA66

Establishment of Area Navigation Instrument Flight Rules Terminal Transition Route (RITTR); T-210; Jacksonville, FL

AGENCY: Federal Aviation Administration (FAA), DOT.

ACTION: Final rule; correction.

SUMMARY: This action corrects an error in the geographic coordinates of a waypoint (WP) listed in the description of route T-210 in a final rule published in the Federal Register on March 27, 2006 (71 FR 15027), Airspace Docket No. 05-ASO-10. This action also makes an editorial change to the order of the points listed in the route description.

DATES: Effective Date: 0901 UTC, June 8, 2006.

FOR FURTHER INFORMATION CONTACT: Paul Gallant, Airspace and Rules, Office of System Operations Airspace and AIM, Federal Aviation Administration, 800 Independence Avenue, SW., Washington, DC 20591; telephone: (202) 267-8783.

SUPPLEMENTARY INFORMATION:

History

On March 27, 2006, a final rule for Airspace Docket No. 05-ASO-10 was published in the Federal Register (71 FR 15027). This rule established RITTR route T-210 in the Jacksonville, FL, terminal area. In the description for route T-210, the coordinates for the OHLEE, FL, WP were incorrect. The correct latitude and longitude coordinates for OHLEE are lat. 30°16′06″ N., long. 82°06′33″ W. The action corrects the error. In addition, the order of the points listed in the rule for the route T-210 legal description did not match the order as listed in flight inspection documentation. The rule listed the points from east to west while the flight inspection document listed the points from west to east. This action simply reverses the order of the points listed in the route T-210 description to agree with the flight inspection documentation. This change does not affect the alignment of the route.

Correction to Final Rule

Accordingly, pursuant to the authority delegated to me, the legal descriptions for T-210 as published in the Federal Register on March 27, 2006 (71 FR 15027), and incorporated by reference in 14 CFR 71.1, is corrected as follows:

PART 71—[AMENDED]

§ 71.1 [Amended]

* * * * *

T-210 Taylor, FL to BRADO, FL [Corrected]
Taylor, FL (TAY) | VORTAC | (Lat. 30°30′17″ N., long. 82°33′10″ W.)
OHLEE, FL | WP | (Lat. 30°16′06″ N., long. 82°06′33″ W.)
BRADO, FL | Fix | (Lat. 29°55′22″ N., long. 81°28′08″ W.)

* * * * *

Issued in Washington, DC, on April 7, 2006.
Edith V. Parish,
Manager, Airspace and Rules.

[FR Doc. 06-3559 Filed 4-12-06; 8:45 am]

BILLING CODE 4910-13-P